DEPARTMENT OF STATE

[Public Notice: 12789]

Amendment of the Specially Designated Global Terrorist Designation of Balochistan Liberation Army

Based upon a review of the administrative record assembled in this matter, and in consultation with the Attorney General and the Secretary of the Treasury, I have concluded that there is sufficient factual basis to find that Balochistan Liberation Army uses the additional aliases Majeed Brigade; Fateh Squad; and Zephyr Intelligence Research and Analysis Bureau. Therefore, pursuant to Section 1 of E.O. 13224, I hereby amend the designation of Balochistan Liberation Army as a Specially Designated Global Terrorist to include the following new aliases: Majeed Brigade; Fateh Squad; and Zephyr Intelligence Research and Analysis Bureau.

This determination shall be published in the Federal Register.

Dated: July 31, 2025.
Marco Rubio,
Secretary of State.

[FR Doc. 2025-15295 Filed 8-11-25; 8:45 am]

BILLING CODE 4710-AD-P